DEPARTMENT OF TRANSPORTATION

Correction; Announcement of Withdrawal

AGENCY: Federal Aviation Administration.

ACTION: Correction; Announcement of Withdrawal.

SUMMARY: The Federal Aviation Administration (FAA) published an announcement in the Federal Register on October 24, 2008, requesting review of a proposed amendment to the Noise Compatibility Program (NCP) submitted for Gulfport Biloxi International Airport, Gulfport MS. The proposed amendment to the Noise Compatibility Program was to be approved or disapproved on or before April 16, 2009. Public comments were to be submitted by December 16, 2008 to the address below. No amendment to NCP was received therefore, neither FAA review or public comment will be required. This Notice was published in error and is being withdrawn.

FOR FURTHER INFORMATION CONTACT: Kevin Morgan, Federal Aviation Administration, Jackson Airports District Office, 100 West Cross Street, Jackson, Mississippi 39208, 601 664-9891.

Issued in Jackson, Mississippi on April 13, 2009.
Rans Black,
Manager, Jackson Airports District Office.

[FR Doc. E9-8867 Filed 4-17-09; 8:45 am]

BILLING CODE P